NATIONAL AERONAUTICS AND SPACE ADMINISTRATION

[Notice 04-087]

NASA Space Science Advisory Committee, Structure and Evolution of the Universe Subcommittee; Meeting

AGENCY: National Aeronautics and Space Administration (NASA).

ACTION: Notice of meeting.

SUMMARY: The National Aeronautics and Space Administration announces a meeting of the NASA Space Science Advisory Committee (SScAC), Structure and Evolution of the Universe Subcommittee (SEUS).

DATES: Monday, July 26, 2004, 8:30 a.m. to 6 p.m., Tuesday, July 27, 2004, 8:30 a.m. to 5 p.m., and Wednesday, July 28, 2004, 8:30 a.m. to Noon.

ADDRESSES: Shelter Pointe Hotel and Marina, 1551 Island Drive, San Diego, CA 92106.

FOR FURTHER INFORMATION CONTACT: Dr. Michael Salamon, Code SZ, National Aeronautics and Space Administration, Washington, DC 20546, (202) 358-0441, michael.h.salamon@nasa.gov.

SUPPLEMENTARY INFORMATION: The meeting will be open to the public up to the seating capacity of the room. The agenda for the meeting is as follows:

• Astronomy and Physics Update

• Explorer Program Update

• Structure and Evolution of the Universe Theme Update

• Government Performance Results Act Evaluations

• Structure and Evolution of the Universe Roadmap Effort

It is imperative that the meeting be held on these dates to accommodate the scheduling priorities of the key participants. Visitors will be requested to sign a visitor's register.

R. Andrew Falcon,
Advisory Committee Management Officer, National Aeronautics and Space Administration.

[FR Doc. 04-16067 Filed 7-14-04; 8:45 am]

BILLING CODE 7510-01-P